DEPARTMENT OF COMMERCE

Foreign-Trade Zones Board

[Docket 16-2011]

Foreign-Trade Zone 229—Charleston, WV; Application for Subzone; Cabela's Inc.; (Hunting, Fishing, Camping and Related Outdoor Merchandise) Triadelphia, WV

An application has been submitted to the Foreign-Trade Zones Board (the Board) by the West Virginia Economic Development Authority, grantee of FTZ 229, requesting special-purpose subzone status for the warehousing and distribution facility of Cabela's Inc. (Cabela's), located in Triadelphia, West Virginia. The application was submitted pursuant to the provisions of the Foreign-Trade Zones Act, as amended (19 U.S.C. 81a-81u), and the regulations of the Board (15 CFR part 400). It was formally filed on March 7, 2011.

The Cabela's facility (510 employees, 60 acres) is located at One Distribution Road, Triadelphia, West Virginia. The facility is used for the storage and distribution of outdoor merchandise, clothing and footwear, including optics, electronics, hunting, archery, shooting, fishing, boating, camping, pet and related products (duty rate ranges from duty-free to 48%).

FTZ procedures could exempt Cabela's from customs duty payments on foreign products that will be re-exported (approximately 1% of shipments). On its domestic sales, the company would be able to defer duty payments until merchandise is shipped from the plant and entered for consumption. FTZ designation would further allow Cabela's to realize logistical benefits through the use of weekly customs entry procedures. The request indicates that the savings from FTZ procedures would help improve the facility's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is May 10, 2011. Rebuttal comments in response to material submitted during the foregoing period may be submitted during the subsequent 15-day period to May 25, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: March 7, 2011.
Andrew McGilvray,
Executive Secretary.

[FR Doc. 2011-5695 Filed 3-10-11; 8:45 am]

BILLING CODE P